DEPARTMENT OF THE TREASURY

Internal Revenue Service

Advisory Group to the Internal Revenue Service, Tax Exempt and Government Entities Division; Meeting

AGENCY: Internal Revenue Service (IRS), Treasury.

ACTION: Notice.

SUMMARY: The Advisory Committee on Tax Exempt and Government Entities (ACT) will hold a public meeting on Friday, June 21, 2002.

FOR FURTHER INFORMATION CONTACT: Rick Trevino; Office of Communication and Liaison; 1111 Constitution Avenue, NW., T:CL—Penn Bldg; Washington, DC 20224. Telephone: 202-283-9950 (not a toll-free number). E-mail address: Rick.Trevino@irs.gov.

SUPPLEMENTARY INFORMATION: By notice herein given, pursuant to section 10(a)(2) of the Federal Advisory Committee Act, 5 U.S.C. App. (1988), a public meeting of the ACT will be held on Friday, June 21, 2002, from 9 a.m. to 4 p.m. in Room 3313, main Internal Revenue Service building, 1111 Constitution Avenue, NW., Washington, DC 20224. Issues to be discussed relate to Employee Plans, Exempt Organizations, and Government Entities. Reports from five ACT subgroups will be presented and discussed. Last minute agenda changes may preclude advance notice. The meeting room accommodates approximately 50 people, IRPAC members and Internal Revenue Service officials inclusive. Due to limited seating and security requirements, please call Demetrice Tuppince to confirm your attendance. Ms. Tuppince can be reached at (202) 283-9954. Attendees are encouraged to arrive at least 30 minutes before the meeting begins to allow sufficient time for security clearance. Please use the main entrance at 1111 Constitution Avenue to enter the building.

Should you wish the ACT to consider a written statement, please call (202) 283-9966, or write to: Internal Revenue Service; Tax Exempt/Government Entities Division; ATTN: Rick Trevino; 1111 Constitution Avenue, NW.,T:CL—Penn Bldg; Washington, DC. 20224, or e-mail: Rick.Trevino@irs.gov.

Dated: May 22, 2002.
Steven J. Pyrek,
Designated Federal Official, Tax Exempt and Government Entities Division.

[FR Doc. 02-13398 Filed 5-28-02; 8:45 am]

BILLING CODE 4830-01-P